DEPARTMENT OF JUSTICE

Antitrust Division

Notice Pursuant to The National Cooperative Research and Production Act of 1993—Cooperative Research Group on Development and Validation of FlawPRO for Assessing Defect Tolerance of Welded Pipes Under Generalized High Strain Conditions

Notice is hereby given that, on August 15, 2011, pursuant to Section 6(a) the National Cooperative Research and Production Act of 1993, 15 U.S.C. 4301 et seq. (“the Act”), Southwest Research Institute—Cooperative Research Group on Development and Validation of FlawPRO for Assessing Defect Tolerance of Welded Pipes Under Generalized High Strain Conditions (“FlawPRO-JIP”) has filed written notifications simultaneously with the Attorney General and the Federal Trade Commission disclosing changes in its membership. The notifications were filed for the purpose of extending the Act's provisions limiting the recovery of antitrust plaintiffs to actual damages under specified circumstances. Specifically, Petroleo Brasileiro S.A.—PETROBRAS, Rio de Janeiro, BRAZIL; and Subsea 7 Limited, Surrey, UNITED KINGDOM, have been added as parties to this venture.

No other changes have been made in either the membership or planned productivity of the group research project. Membership in this group research project remains open, and FlawPRO-JIP intends to file additional written notifications disclosing all changes in membership.

On May 17, 2011, FlawPRO-JIP filed its original notification pursuant to Section 6(a) of the Act. The Department of Justice published a notice in the Federal Register pursuant to Section 6(b) of the Act on July 7, 2011 (76 FR 39901).

Patricia A. Brink,
Director of Civil Enforcement, Antitrust Division.

[FR Doc. 2011-24001 Filed 9-20-11; 8:45 am]

BILLING CODE 4410-11-M